DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 22, 2024, OFAC determined that the property and interests in property subject to U.S. jurisdiction of the following persons are blocked under the relevant sanctions authority listed below.

Individuals

1. LARRANAGA HERRERA, Jesus Norberto (a.k.a. “Chuy”; a.k.a. “El 30”; a.k.a. “Treinta”), Culiacan, Sinaloa, Mexico; DOB 14 Apr 1993; POB Sinaloa, Mexico; nationality Mexico; Gender Male; C.U.R.P. LAHJ930414HSLRRS06 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. LEON VALDEZ, Jesus Manuel (a.k.a. “El Guero de Las Trancas”; a.k.a. “El Guero Trancas”; a.k.a. “Guero de Las Trancas”; a.k.a. “Guero Trancas”), Las Trancas, Tamazula, Durango, Mexico; DOB 08 May 1977; POB Durango, Mexico; nationality Mexico; Gender Male; C.U.R.P. LEVJ770508HDGNLS02 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. LIZARRAGA MARTINEZ, Victor (a.k.a. “El 20”; a.k.a. “El Veinte”), Tacuichamona, Culiacan, Sinaloa, Mexico; Pueblos Unidos, Culiacan, Sinaloa, Mexico; DOB 23 Mar 1972; POB Sinaloa, Mexico; nationality Mexico; Gender Male; C.U.R.P. LIMV720323HSLZRC07 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. LIZARRAGA SANCHEZ, Karla Gabriela (a.k.a. “LIZARRAGA, Gaby”), Mexico; DOB 14 Jun 1993; POB Sinaloa, Mexico; nationality Mexico; Gender Female; C.U.R.P. LISK930614MSLZNR04 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

5. NUNEZ HERRERA, Alan Gabriel, Mexico; DOB 29 Sep 1993; POB Sinaloa, Mexico; nationality Mexico; Gender Male; C.U.R.P. NUHA930929HSLXRL02 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

6. ROBLEDO ARREDONDO, Ivan Yareth, Calle San Felipe 3208, Fracc. Los Angeles, Culiacan, Sinaloa 80014, Mexico; DOB 01 May 1993; POB Sinaloa, Mexico; nationality Mexico; Gender Male; C.U.R.P. ROAI930501HSLBRV04 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

7. ROBLEDO ARREDONDO, Adilene Mayre (a.k.a. ROBLEDO, Adilene), Calle San Felipe 3208, Fracc. Los Angeles, Culiacan, Sinaloa 80014, Mexico; DOB 01 Sep 1997; POB Sinaloa, Mexico; nationality Mexico; Gender Female; C.U.R.P. ROAA970901MSLBRD05 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

8. TIRADO ANDRADE, Jesus, Mexico; DOB 01 Dec 1996; POB Sinaloa, Mexico; nationality Mexico; Gender Male; C.U.R.P. TIAJ961201HSLRNS08 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

9. VERDUZCO CASTRO, Rolando, Mexico; DOB 17 Mar 1987; POB Sinaloa, Mexico; nationality Mexico; Gender Male; C.U.R.P. VECR870317HSLRSL01 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

10. VERGARA MEZA, Alexis, Mexico; DOB 18 Jan 1996; POB Sinaloa, Mexico; nationality Mexico; Gender Male; C.U.R.P. VEMA960118HSLRZL05 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

11. VERGARA MEZA, Edy, Mexico; DOB 04 May 1992; POB Sinaloa, Mexico; nationality Mexico; Gender Male; C.U.R.P. VEME920504HSLRZD03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

12. MARIN GONZALEZ, Porthos, Calle San Jorge 4217, Fracc. Santa Fe, Culiacan, Sinaloa, Mexico; DOB 11 Jan 1996; POB Sinaloa, Mexico; nationality Mexico; Gender Male; C.U.R.P. MAGP960111HSLRNR03 (Mexico) (individual) [ILLICIT-DRUGS-EO14059].

Designated pursuant to section 1(b)(i)(B) for having provided, or attempted to provide, financial, material, or technological support for, or goods or services in support of, the SINALOA CARTEL, a person sanctioned pursuant to E.O. 14059.

13. MARIN GONZALEZ, Arturo D'Artagnan, Mexico; DOB 09 Dec 1997; POB Sinaloa, Mexico; nationality Mexico; Gender Male; C.U.R.P. MAGA971209HSLRNR05 (Mexico) (individual) [ILLICIT-DRUGS-EO14059].

Designated pursuant to section 1(b)(i)(B) for having provided, or attempted to provide, financial, material, or technological support for, or goods or services in support of, the SINALOA CARTEL, a person sanctioned pursuant to E.O. 14059.

14. GARCIA VELAZCO, Jorge Alejandro, San Luis Rio Colorado, Sonora, Mexico; DOB 12 Jan 1987; POB Sinaloa, Mexico; nationality Mexico; Gender Male; R.F.C. GAVJ870112DP3 (Mexico); C.U.R.P. GAVJ870112HSLRLR00 (Mexico) (individual) [ILLICIT-DRUGS-EO14059].

Designated pursuant to section 1(b)(i)(B) of E.O. 14059 for having provided, or attempted to provide, financial, material, or technological support for, or goods or services in support of, the SINALOA CARTEL, a person sanctioned pursuant to E.O. 14059.

15. GONZALEZ CORDERO, Mayra Gisel, San Luis Rio Colorado, Sonora, Mexico; DOB 25 Sep 1985; POB Baja California, Mexico; nationality Mexico; Gender Female; C.U.R.P. GOCM850925MBCNRY07 (Mexico) (individual) [ILLICIT-DRUGS-EO14059].

Designated pursuant to section 1(b)(iii) of E.O. 14059 for being owned, controlled, or directed by, or having acted or purported to act for or on behalf of, directly or indirectly, CELULANDIA TALLER & STORE SLRC, a person sanctioned pursuant to E.O. 14059.

Entities

16. SMART DEPOT (a.k.a. “SMART DEPOT MAZATLAN”; a.k.a. “SMART DEPOT PUERTO CANCUN”; a.k.a. “SMART DEPOTMX TU CELLULAR AL INSTANTE”; a.k.a. “SMARTDEPOT”; a.k.a. “SMARTDEPOTMX”), Boulevard Sinaloa 1061, Las Quintas, Culiacan, Sinaloa 80020, Mexico; Avenida Reforma S/N, Gran Plaza Mazatlan, Local I29, Alameda, Mazatlan, Sinaloa 82123, Mexico; Boulevard Kukulcan KM 1.5, Local B32, Puerto Juarez, Marina Puerto, Cancun, Quintana Roo 77500, Mexico; Organization Type: Retail sale of information and communications equipment in specialized stores [ILLICIT-DRUGS-EO14059].

Designated pursuant to section 1(b)(i)(B) for having provided, or attempted to provide, financial, material, or technological support for, or goods or services in support of, the SINALOA CARTEL, a person sanctioned pursuant to E.O. 14059.

17. BUFALUSS (a.k.a. BUFALUS; a.k.a. “BUFALUBUFF”), Calle Cancun 1555, Culiacan, Sinaloa, Mexico; Calle San Felipe 3208, Fracc. Los Angeles, Culiacan, Sinaloa 80014, Mexico; Culiacan, Sinaloa, Mexico; Organization Type: Restaurants and mobile food service activities [ILLICIT-DRUGS-EO14059] (Linked To: ROBLEDO ARREDONDO, Adilene Mayre; Linked To: ROBLEDO ARREDONDO, Ivan Yareth).

Designated pursuant to section 1(b)(iii) of E.O. 14059 for being owned, controlled, or directed by, or having acted or purported to act for or on behalf of, directly or indirectly, Adilene Mayre ROBLEDO ARREDONDO and Ivan Yareth ROBLEDO ARREDONDO, persons sanctioned pursuant to E.O. 14059.

18. DULCE VOLCAN (a.k.a. “DULCEVOLCANCLN”), Culiacan, Sinaloa, Mexico; Calle Cancun 156, Col. Isla Musala, Tachintle, Culiacan, Sinaloa 80065, Mexico; Organization Type: Restaurants and mobile food service activities [ILLICIT-DRUGS-EO14059] (Linked To: ROBLEDO ARREDONDO, Adilene Mayre; Linked To: ROBLEDO ARREDONDO, Ivan Yareth).

Designated pursuant to section 1(b)(iii) of E.O. 14059 for being owned, controlled, or directed by, or having acted or purported to act for or on behalf of, directly or indirectly, Adilene Mayre ROBLEDO ARREDONDO and Ivan Yareth ROBLEDO ARREDONDO, persons sanctioned pursuant to E.O. 14059.

19. ROYAL ROOM DRESS (a.k.a. “ROYALROOMDRESS”), Culiacan, Sinaloa, Mexico; Calle Justo Sierra 2976 (esquina con Boulevard Sabinos), Col. La Campina, Culiacan, Sinaloa, Mexico; Organization Type: Retail sale of clothing, footwear and leather articles in specialized stores [ILLICIT-DRUGS-EO14059] (Linked To: ROBLEDO ARREDONDO, Adilene Mayre).

Designated pursuant to section 1(b)(iii) of E.O. 14059 for being owned, controlled, or directed by, or having acted or purported to act for or on behalf of, directly or indirectly, Adilene Mayre ROBLEDO ARREDONDO, a person sanctioned pursuant to E.O. 14059.

20. TOTAL LOOK (a.k.a. “OUTLET_TLOOK”; f.k.a. “TOTAL_LOOKCLN”), Culiacan, Sinaloa, Mexico; website www.totallook.mx; Organization Type: Retail sale of clothing, footwear and leather articles in specialized stores [ILLICIT-DRUGS-EO14059] (Linked To: ROBLEDO ARREDONDO, Adilene Mayre).

Designated pursuant to section 1(b)(iii) of E.O. 14059 for being owned, controlled, or directed by, or having acted or purported to act for or on behalf of, directly or indirectly, Adilene Mayre ROBLEDO ARREDONDO, a person sanctioned pursuant to E.O. 14059.

21. CELULANDIA TALLER & STORE SLRC (a.k.a. CELULANDIA TALLER & STORE SAN LUIS SON; a.k.a. CELULANDIA TALLER AND STORE SAN LUIS SON; a.k.a. CELULANDIA TALLER AND STORE SLRC; a.k.a. “CELULANDIA_SLRC”; a.k.a. “CELULANDIASLRC”; a.k.a. “CTS SLRC”), San Luis Rio Colorado, Sonora, Mexico; Avenida Libertad y 14, Residencias, San Luis Rio Colorado, Sonora, Mexico; Avenida Obregon y 18, San Luis Rio Colorado, Sonora, Mexico; website https://celulandiatallerstore.negocio.site/; Organization Established Date 19 Aug 2017; Organization Type: Retail sale of information and communications equipment in specialized stores; R.F.C. GAVJ870112DP3 (Mexico) [ILLICIT-DRUGS-EO14059] (Linked To: GARCIA VELAZCO, Jorge Alejandro; Linked To: GONZALEZ CORDERO, Mayra Gisel).

Designated pursuant to section 1(b)(iii) of E.O. 14059 for being owned, controlled, or directed by, or having acted or purported to act for or on behalf of, directly or indirectly, Jorge Alejandro GARCIA VELAZCO, a person sanctioned pursuant to E.O. 14059.

Dated: March 22, 2024.
Bradley T. Smith,
Director, Office of Foreign Assets Control, U.S. Department of the Treasury.

[FR Doc. 2024-07007 Filed 4-2-24; 8:45 am]

BILLING CODE 4810-AL-P